DEPARTMENT OF COMMERCE

National Oceanic and Atmospheric Administration

Proposed Information Collection; Comment Request; North Atlantic Right Whale Economic Benefit Study: Pre-test Data Collection

AGENCY: National Oceanic and Atmospheric Administration (NOAA), DOC.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 20, 2006.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Dr. Kathryn Bisack, National Marine Fisheries Service, Northeast Fisheries Science Center, 166 Water Street, Woods Hole, MA 02543; telephone: (508) 495-2324; or Kathryn.Bisack@noaa.gov.

SUPPLEMENTARY INFORMATION:

I. Abstract

The National Marine Fisheries Service (NMFS) plans to conduct a pilot survey with the objective of testing a survey instrument that will be used to collect data for measuring the preferences U.S. residents have among the available management options to protect the northern right whale (Eubalena glacialis), which is a listed species under the Endangered Species Act of 1973 (16 U.S.C. 35). NMFS is charged with protecting this species and has in the past and will continue to implement management actions to allow the species to recover (69 FR 53040). Because available management options have potentially different socioeconomic impacts, it is important to understand the public's attitudes towards potential impacts on northern right whales and the fishing and shipping industries. This information is currently not available, yet is an additional socioeconomic component critical for improvement of the planning and evaluation of effective protection measures for northern right whales.

The pilot instrument will present the latest information on northern right whales, current population levels, probabilities of extinction, alternative management options, and likely impacts of management options. The survey is expected to ask respondents for information regarding their knowledge and opinions on northern right whale conservation, and on the potential impacts of management options available to protect the species. Additional standard social-demographic information needed to classify respondents will also be obtained. The pilot pre-test will gather a sufficient number of responses to evaluate the information, presentation, reliability, internal consistency, response variability, and other properties of a newly developed survey. The results from these pre-test activities will be used to make improvements to the survey instrument.

A second Federal Register Notice will appear when the final survey is to be conducted. Ultimately, final survey results may provide information on the economic benefits of right whale protection. These results may supplement other materials to allow one to evaluate alternative protection measures. Such information may be used in an analysis to determine whether the benefits of stronger protection measures (i.e., right whale benefits) are commensurate with the costs.

II. Method of Collection

Two modes are being considered, mail and the Internet; however, we are more likely to use mail as the method of collection.

III. Data

OMB Number: None.

Form Number: None.

Type of Review: Regular submission.

Affected Public: Individuals or households.

Estimated Number of Respondents: 200.

Estimated Time Per Response: 35 minutes.

Estimated Total Annual Burden Hours: 117.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 14, 2006.
Gwellnar Banks,
Management Analyst, Office of the Chief Information Officer.

[FR Doc. E6-15546 Filed 9-18-06; 8:45 am]

BILLING CODE 3510-22-P